SMALL BUSINESS ADMINISTRATION

Data Collection Available for Public Comments

ACTION: 60-day notice and request for comments.

SUMMARY: The Small Business Administration (SBA) intends to request approval, from the Office of Management and Budget (OMB), for the collection of information described below. The Paperwork Reduction Act (PRA) requires federal agencies to publish a notice in the Federal Register concerning each collection of information before submission to OMB and to allow 60 days for public comment in response to the notice. This information collection is currently approved under emergency procedures, which included waiver of notice. This publication complies with the PRA requirement to publish that previously waived notice.

DATES: Submit comments on or before August 30, 2021.

ADDRESSES: Send all comments related to this Federal Register Notice electronically to 7apaycheckloanprogramquestions@sba.gov with the Subject Line: “SBA Form 3512 Comments.”

FOR FURTHER INFORMATION CONTACT: Mary Frias, Loan Specialist, at mary.frias@sba.gov; 202-401-8234, or Curtis B. Rich, Management Analyst, 202-205-7030; curtis.rich@sba.gov;

SUPPLEMENTARY INFORMATION: Section 1102 of the Coronavirus Aid, Relief, and Economic Security (CARES) Act, Public Law 116-136, authorizes SBA to guarantee loans made by banks or other financial institutions under a new temporary 7(a) program titled the “Paycheck Protection Program” (“PPP”) to small businesses, certain non-profit organizations, veterans' organizations, Tribal business concerns, independent contractors and self-employed individuals adversely impacted by the Coronavirus Disease (COVID-19) Emergency. This authority initially expired on August 8, 2020. The Economic Aid to Hard-Hit Small Businesses, Nonprofits, and Venues Act (Economic Aid Act), Public Law 116-260, renewed SBA's authority to make PPP loans until March 31, 2021, and added authority for second draw PPP loans under § 7(a)(37) of the Small Business Act. The program authority was further extended until June 30, 2021, by the PPP Extension Act of 2021, Public Law 117-6.

Any lender that has made PPP loans can use this information collection (SBA Form 3512) to request (1) reinstatement of a PPP loan that was cancelled in SBA's ETRAN system due to the lender's data input error, and/or (2) correction of the lender's data input error in the SBA Loan Approval Amount of a PPP loan on ETRAN or the Paycheck Protection Platform, subject to availability of funds. The form contains examples of the types of lender requests for reinstatement or correction that can be submitted on the form. SBA will rely on the information submitted on this form to evaluate the lender's request

Due to the urgent need to make Form 3512 available to the PPP Lenders, SBA obtained emergency approval from OMB on December 9, 2020, to collect the information. SBA has made the following non-substantive revisions to the currently approved form, which will be submitted to OMB for review and approval:

• Revised the form in light of the new 2021 origination process for PPP loans, where loans are processed through SBA's Paycheck Protection Platform, rather than directly through SBA's ETRAN system.

• Clarified that corrections and reinstatements are subject to availability of funds.

• Deleted the sentence that states that SBA's program authority for PPP expired on August 8, 2020. That sentence referred to the expiration date of the 2020 program authority.

• Clarified that an Individual Taxpayer Identification Number (ITIN) is an acceptable Taxpayer Identification Number for the Borrower.

(a) Solicitation of Public Comments:

SBA is requesting comments on (i) Whether the collection of information is necessary for the agency to properly perform its functions; (ii) whether the burden estimates are accurate; (iii) whether there are ways to minimize the burden, including through the use of automated techniques or other forms of information technology; and (iv) whether there are ways to enhance the quality, utility, and clarity of the information.

(b) Summary of Proposed Information Collection:

Title: Lender Certification for Reinstatement or Correction of Paycheck Protection Program (PPP) Loan.

Form Number: SBA Form 3512.

OMB Control Number: 3245-0415.

Description of respondents: Lenders that participate in SBA's Paycheck Protection.

Estimated number of respondents: 1, 350.

Estimated time per response: 30 minutes.

Total estimated annual responses: 4,000.

Total Estimated Annual Hour Burden: 2,000 hours.

Curtis Rich,
Management Analyst.

[FR Doc. 2021-13810 Filed 6-28-21; 8:45 am]

BILLING CODE 8026-03-P